DEPARTMENT OF HEALTH AND HUMAN SERVICES

Centers for Disease Control and Prevention

Board of Scientific Counselors, Center for Preparedness and Response (BSC, CPR)

AGENCY: Centers for Disease Control and Prevention (CDC), Department of Health and Human Services (HHS).

ACTION: Notice of meeting.

SUMMARY: In accordance with the Federal Advisory Committee Act, the CDC announces the following meeting for the Board of Scientific Counselors, Center for Preparedness and Response (BSC, CPR). This is a hybrid meeting, accessible both in person and virtually. It is open to the public and limited only by the space available and the number of internet conference accesses available. Time will be available for public comment.

DATES: The meeting will be held on November 15, 2022, from 10:30 a.m. to 5:00 p.m., EST, and November 16, 2022, from 10:00 a.m. to 2:30 p.m., EST.

ADDRESSES: CDC, 1600 Clifton Road NE, Atlanta, Georgia 30329-4027. The conference room will have seating for approximately 40 people.

Please note that the meeting location is a federal facility and in-person access is limited to United States citizens unless prior authorizations, taking up to 30 to 60 days, have been made. Visitors must follow all directions for access to CDC facilities. Directions for visitors to CDC, including safety requirements related to COVID-19, are available at https://www.cdc.gov/screening/visitors.html.

If you wish to attend in person, please submit a request by email to Ms. Dometa Ouisley, Management Analyst, Office of Science and Public Health Practice, Center for Preparedness and Response (CPR), CDC, at DOuisley@cdc.gov at least 5 business days in advance of the meeting.

If you wish to attend the meeting virtually, please register by accessing the link at: https://cdc.zoomgov.com/webinar/register/WN_jZsYAhDQSYOqDwZs2G6Ang. Instructions to access the Zoom virtual meeting will be provided in the link following registration.

FOR FURTHER INFORMATION CONTACT: Dometa Ouisley, Management Analyst, Office of Science and Public Health Practice, CPR, CDC, 1600 Clifton Road NE, Mailstop H21-6, Atlanta, Georgia 30329-4027; Telephone: (404) 639-7450; Email: DOuisley@cdc.gov.

SUPPLEMENTARY INFORMATION:

Purpose: This Board is charged with providing advice and guidance to the Secretary, Department of Health and Human Services; the Assistant Secretary for Health; the Director, Centers for Disease Control and Prevention; and the Director, Center for Preparedness and Response, concerning strategies and goals for the programs and research within CPR, monitoring the overall strategic direction and focus of the CPR Divisions and Offices, and administration and oversight of peer review for CPR scientific programs. For additional information about the Board, please visit: https://www.cdc.gov/cpr/bsc/index.htm.

Matters to be Considered: The agenda for Day 1 will include CPR Division Updates and Discussion; a CPR Diversity, Equity, Inclusion and Accessibility Update; and Data Modernization and Outbreak Forecasting Analytics. The agenda for Day 2 will include CDC Response Updates; a U.S. National Authority for Containment of Poliovirus and Polio Containment Workgroup Update; a Strategic Capacity Building and Innovation Program Review Working Group Update; Risk Communications during Public Health Emergencies; and a BSC Discussion of Future Meeting Topics. Agenda items are subject to change as priorities dictate.

The Director, Strategic Business Initiatives Unit, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Strategic Business Initiatives Unit, Office of the Chief Operating Officer, Centers for Disease Control and Prevention.

[FR Doc. 2022-22213 Filed 10-12-22; 8:45 am]

BILLING CODE 4163-18-P